DEPARTMENT OF DEFENSE

Office of the Secretary

[Docket ID: DoD-2013-OS-0178]

Proposed Collection; Comment Request

AGENCY: Defense Logistics Agency, DoD.

ACTION: Notice.

SUMMARY: In compliance with Section 3506(c)(2)(A) of the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 21, 2013.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Logistics Agency, Security and Emergency Services Suite 3533, ATTN: Mr. Gregory Govan, Fort Belvoir, VA 22060, or call Security and Emergency Services at 703-767-5400.

Title; Associated Form; and OMB Number:

Physical Access Control System (Lenel)

DSCC Form 2310-1 “DSCC Tier 2 (Outside Contractor) ID Card Request”

DSCC Form 2310-2 “DSCC Tier 3 (Inside Contractor) ID Card & Key Card Request”

DSCC Form 2313 “DSCC Tier 2 Local Access Badge Request”

DLA Form 1815 “Request for DLA Badge”

OMB Control Number 0704-TBD

Needs and Uses: The information collection requirement is needed to obtain the necessary data to verify eligibility for a Department of Defense physical access card for personnel who are not entitled to a Common Access Card or other approved DoD identification card. The information is used to establish eligibility for the physical access to the DLA Distribution San Joaquin, DLA Distribution Susquehanna, or DLA Land and Maritime installations or facilities, detect fraudulent identification cards, provide physical access and population demographics reports, provide law enforcement data, and in some cases, provide antiterrorism screening.

Affected Public: Individuals (non-federal government employee and non-DoD-issued credential) requesting access to the DLA Distribution San Joaquin, DLA Distribution Susquehanna, or DLA Land and Maritime installations or facilities.

Annual Burden Hours: 15,000.

Number of Respondents: 60,000.

Responses per Respondent: 1.

Average Burden per Response: 15 minutes.

Frequency: On occasion.

SUPPLEMENTARY INFORMATION:

Summary of Information Collection

Security Professionals (security administrators, security assistants, and/or Police officers) process the information to ensure personnel requesting and/or requiring access are properly identity proofed and vetted prior to allowing personnel access to the DLA Distribution San Joaquin, DLA Distribution Susquehanna, or DLA Land and Maritime installations. Respondents are individuals who require physical access to these DLA installations. Basic identifying information is collected from the individuals, consisting of biographical data. Additional information may also be collected (such as contact information, vehicle information, organization affiliation, etc.) but may not be required for that individual to be registered and gain access to the DLA installation or facility.

Dated: August 15, 2013.
Aaron Siegel,
Alternate OSD Federal Register Liaison Officer, Department of Defense.

[FR Doc. 2013-20230 Filed 8-19-13; 8:45 am]

BILLING CODE 5001-06-P